DEPARTMENT OF HEALTH AND HUMAN SERVICES

Agency for Toxic Substances and Disease Registry

[ATSDR-224]

Availability of Two Interaction Profiles [Final Documents] at http://www.atsdr.cdc.gov

AGENCY: Agency for Toxic Substances and Disease Registry (ATSDR), Department of Health and Human Services (DHHS).

ACTION: Notice of availability.

SUMMARY: This notice announces the availability of two interaction profiles prepared by ATSDR [final documents].

DATES: The interaction profiles will be available to the public on or about, October 1, 2006.

ADDRESSES: The documents will also be available on ATSDR's Web site at http://www.atsdr.cdc.gov.

FOR FURTHER INFORMATION CONTACT: Please submit questions regarding information contained in the profiles to Dr. Hana Pohl, Division of Toxicology and Environmental Medicine, Agency for Toxic Substances and Disease Registry, Mailstop F-32, 1600 Clifton Road, NE., Atlanta, Georgia 30333, telephone (888) 422-8737.

SUPPLEMENTARY INFORMATION: The interaction profiles were developed by ATSDR for hazardous substances at National Priority List (NPL) sites under sections 104(i)(3) and (5) of the Comprehensive Environmental Response, Compensation, and Liability Act of 1980 (CERCLA or Superfund), as amended by the Superfund Amendments and Reauthorization Act of 1986 (SARA). This public law mandates that ATSDR shall assess whether adequate information on health effects is available for the priority hazardous substances. Where such information is not available or under development, ATSDR shall, in cooperation with the National Toxicology Program, initiate a program of research to determine these health effects. The Act further directs that where feasible, ATSDR shall develop methods to determine the health effects of substances in combination with other substances with which they are commonly found.

To carry out these legislative mandates, ATSDR has developed a chemical mixtures program. As part of the mixtures program, ATSDR developed a guidance manual that outlines the latest methods for mixtures health assessment. In addition, a series of documents called interaction profiles are being developed for certain priority mixtures that are of special concern to ATSDR. The purpose of an interaction profile is to evaluate data on the toxicology of the “whole” priority mixture (if available) and on the joint toxic action of the chemicals in the mixture in order to recommend approaches for the exposure-based assessment of the potential hazard to public health.

The documents were submitted to both the peer-review and the public review processes. Changes in the documents reflect those addressing the comments.

The following documents will be available to the public on or about, October 1, 2006.

Document 1

Interaction profile for atrazine deethylatrazine, diazinon, simazine, and nitrate.

Document 2

Interaction profile for chlorpyrifos, lead, mercury, and methylmercury.

Dated: September 21, 2006.
Kenneth Rose,
Acting Director, Office of Policy, Planning and Evaluation, National Center for Environmental Health/Agency for Toxic Substances and Disease Registry.

[FR Doc. E6-15946 Filed 9-27-06; 8:45 am]

BILLING CODE 4163-70-P